DEPARTMENT OF THE TREASURY

Internal Revenue Service

Credit for Indian Coal Production and Inflation Adjustment Factor for Calendar Year 2017

AGENCY: Internal Revenue Service (IRS), Treasury.

ACTION: Publication of inflation adjustment factor for Indian coal production for calendar year 2017.

SUMMARY: The 2017 inflation adjustment factor is used in determining the availability of the credit for Indian coal production under section 45. Section 40408 of Division A of the Bipartisan Budget Act of 2018 extends the credit period for the Indian coal production credit from an 11-year period beginning on January 1, 2006, to a 12-year period beginning on January 1, 2006. This provision is effective for coal produced in the United States or a possession thereof after December 31, 2016.

DATES: The 2017 inflation adjustment factor applies to calendar year 2017 sales of Indian coal produced in the United States or a possession thereof.

Inflation Adjustment Factor: The inflation adjustment factor for calendar year 2017 for Indian coal is 1.2115.

Credit Amount for Indian Coal: As required by section 45(e)(10)(B)(ii), the $2.00 amount in section 45(e)(10)(B)(i) is adjusted by multiplying such amount by the inflation adjustment factor for the calendar year. Under the calculation required by section 45(e)(10)(B)(ii), the credit for Indian coal production for calendar year 2017 under section 45(e)(10)(B) is $2.423 per ton on the sale of Indian coal.

FOR FURTHER INFORMATION CONTACT: Phil Tiegerman, CC:PSI:6, Internal Revenue Service, 1111 Constitution Avenue NW, Washington, DC 20224, (202) 317-6853 (not a toll-free number).

Christopher T. Kelley
Special Counsel to the Associate Chief Counsel (Passthroughs and Special Industries).

[FR Doc. 2018-06236 Filed 3-27-18; 8:45 am]

BILLING CODE 4830-01-P